DEPARTMENT OF THE INTERIOR

Bureau of Reclamation

Solano Project—Lake Berryessa; Napa, California

AGENCY: Bureau of Reclamation, Interior.

ACTION: Notice of intent to prepare an environmental impact statement.

SUMMARY: Pursuant to the National Environmental Policy Act (NEPA) of 1969, as amended, the Bureau of Reclamation (Reclamation) is initiating a formal Visitor Services Planning effort for the Lake Berryessa Recreation Area. Reclamation intends to prepare an environmental impact statement (EIS) for implementing the provisions of the plan. The purpose of the Visitor Services Plan is to determine the type and level of commercial facilities and services that are necessary and appropriate for future long term operations. The current concession contracts expire in 2009 and the Visitor Services Plan will be used as a basis for future concession prospectuses.

DATES: Formal public scoping meetings are scheduled for May 2001. Notice of the specific dates and locations of the meetings will appear at future date.

ADDRESSES: Mail comments on the existing facilities, possible issues and alternatives and requests to participate in public scoping meetings to Mr. Bruce Wadlington at the address below. You may also submit requests and comments by sending electronic mail (e-mail) to: bwadlington@mp.usbr.gov.

FOR FURTHER INFORMATION CONTACT: Mr. Bruce Wadlington, Mid-Pacific Regional Concessions Manager, Central California Area Office, Bureau of Reclamation, 7794 Folsom Dam Road, Folsom, CA 95630; telephone: Folsom (916) 989-7175, Berryessa (707) 966-2111 ext. 108 (TDD (916) 989-7285).

SUPPLEMENTARY INFORMATION:

Background

Lake Berryessa was created as part of the Solano Project with the completion of Monticello Dam in 1957. In 1958, Reclamation and the County of Napa entered into an agreement for the County to assume management responsibilities for the lake. A Public Use Plan (PUP) was developed by the National Park Service in 1959 to guide Reclamation and the County in development of the recreational facilities at the lake. In 1975, Reclamation resumed direct management of Lake Berryessa as a result of Title VI of the Reclamation Development Act of October 27, 1974 (Public Law 93-493), which authorizes Reclamation to provide for the protection, use, and enjoyment of the aesthetic and recreational values at Lake Berryessa. In 1987 a new planning process began to develop an updated management document for the lake. A Reservoir Area Management Plan (RAMP) was developed to provide guidance for Reclamation in management issues which were not mentioned in the PUP and to assist Reclamation in administering the lake and concession areas. Reclamation completed a final EIS for the RAMP in 1993.

Presently there are seven (7) concessionaires authorized by Reclamation to provide commercial support services to visitors to Lake Berryessa. These concession contracts have been in effect since the late 1950's. All the contracts will expire by 2009. Reclamation also administers two day-use areas and a public launching facility, as well as numerous roadside turnouts and trails. The eastside of the lake has been designated a State Wildlife Area and is managed cooperatively by Reclamation and the California Department of Fish and Game.

Visitor Services Plan

The Visitor Services Plan will identify and develop the requirements, terms, and conditions for new competitive concession contracts that will be developed by the Federal Government. Some of the issues to be addressed in the plan include day-use needs, long-term and short-term recreational vehicle and trailer sites, campground development, marina development, consolidation or expansion of operations, new services development and construction, retention or removal of existing facilities, food and beverage service needs, overnight lodging facilities, and support for marine based activities, i.e., fishing (individual and tournament), swimming, water skiing, etc.

Public Involvement and Planning Schedule

The time frame for completion of this plan is 18 to 24 months. Formal Public Scoping meetings are scheduled to be held in May 2001. The draft EIS is expected to be completed by November 2001. The final EIS is scheduled to be released in March 2002.

Anyone interested in more information concerning the plan, or who has an interest in the future development of Lake Berryessa as related to this planning effort or has suggestions as to significant environmental issues, should contact Mr. Bruce Wadlington as provided above. A web site has been established to provide additional information regarding plan progress and public comment at: http://www.mp.usbr.gov/berryessa.

Dated: October 20, 2000.
Frank Michny,
Regional Environmental Officer.

[FR Doc. 00-28454 Filed 11-06-00; 8:45 am]

BILLING CODE 4310-MN-M